DEPARTMENT OF COMMERCE

International Trade Administration

[A-570-922]

Notice of Correction of Postponement of Preliminary Determination of Antidumping Duty Investigation: Raw Flexible Magnets from the People's Republic of China

AGENCY: Import Administration, International Trade Administration, Department of Commerce

EFFECTIVE DATE: February 13, 2008.

FOR FURTHER INFORMATION CONTACT: Melissa Blackledge or Shawn Higgins, AD/CVD Operations, Office 4, Import Administration, International Trade Administration, U.S. Department of Commerce, 14th Street and Constitution Avenue, NW, Washington, DC, 20230; telephone: (202) 482-3518 or (202) 482-0679, respectively.

SUPPLEMENTARY INFORMATION:

CORRECTION:

On January 31, 2008, the Department of Commerce (the “Department”) published the notice of postponement of the preliminary determination of the antidumping duty investigation of raw flexible magnets from the People's Republic of China. See Notice of Postponement of Preliminary Determination of Antidumping Duty Investigation: Raw Flexible Magnets from the People's Republic of China, 73 FR 5794 (January 31, 2008) (“Postponement Notice”). Subsequent to the signature of the Postponement Notice, we identified two inadvertent errors in the above-referenced notice.

In the Postponement Notice, under the “Postponement of Preliminary Determination” section, the Department mistakenly identified October 18, 2007, rather than October 11, 2007, as the date the Department initiated this investigation. The Postponement Notice should have stated, “On October 11, 2007, the Department of Commerce (the “Department”) initiated the antidumping duty investigation of raw flexible magnets from the People's Republic of China. See Notice of Initiation of Antidumping Duty Investigations: Raw Flexible Magnets from the People's Republic of China and Taiwan, 72 FR 59071 (October 18, 2007) (“Initiation Notice”).” Second, in the same section of the Postponement Notice, the Department incorrectly identified April 19, 2008, rather than April 18, 2008, as the extended due date of the preliminary determination. The Postponement Notice should have stated, “For the reasons identified by the Petitioner, and because there are no compelling reasons to deny the request, the Department is postponing the preliminary determination under section 733(c)(1)(A) of the Tariff Act of 1930, as amended (the “Act”), by fifty days from February 28, 2008 to April 18, 2008.”

Conclusion

This notice serves to correct both the date of initiation of this investigation and the extended due date of the preliminary determination as listed in the Postponement Notice. This notice is issued and published in accordance with section 777(i) of the Tariff Act of 1930, as amended.

Dated: February 7, 2008.
Gary Taverman,
Acting Deputy Assistant Secretary for Import Administration.

[FR Doc. E8-2647 Filed 2-12-08; 8:45 am]

BILLING CODE 3510-DS-S